DEPARTMENT OF TRANSPORTATION

Federal Highway Administration

[Docket No. FHWA-2024-0002]

Agency Information Collection Activities: Notice of Request for Reinstatement of a Previously Approved Information Collection

AGENCY: Federal Highway Administration (FHWA), DOT.

ACTION: Notice of request for reinstatement of a previously approved information collection.

SUMMARY: The FHWA has forwarded the information collection request described in this notice to the Office of Management and Budget (OMB) for approval of a new (periodic) information collection. We published a Federal Register Notice with a 60-day public comment period on this information collection on September 30, 2023. We are required to publish this notice in the Federal Register by the Paperwork Reduction Act of 1995.

DATES: Please submit comments by February 9, 2024.

ADDRESSES: You may submit comments identified by DOT Docket ID Number 0002 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Jason Broehm, Office of Safety, 202-366-2201, Federal Highway Administration, Department of Transportation, 1200 New Jersey Avenue SE, Washington, DC 20590, between 7:30 a.m. to 4:30 p.m., Monday through Friday, except Federal holidays.

SUPPLEMENTARY INFORMATION:

Title: Safe Streets and Roads for All Grant Program.

OMB Control #: 2125-0675.

Background: Through the Safe Streets and Roads for All discretionary grant program, the Office of the Secretary of Transportation (OST), in close collaboration with the Federal Highway Administration (FHWA), provides financial support for local initiatives to prevent traffic related fatalities and serious injuries on the nation's roads. Section 24112(g)(1) of the Bipartisan Infrastructure Law specifically requires grant recipients to submit certain data, information, and analysis to the Secretary on a regular basis. In addition, grant recipients will submit requests for financial reimbursement for funds expended on eligible projects. The reporting requirements submitted by grant recipients will be completed during the application, grant agreement, project management, and project evaluation phases.

Respondents: MPOs, political subdivisions of a State, federally-recognized Tribal governments, and multijurisdictional groups comprised of these entities.

Estimated Average Burden per Response: Collectively, the respondents electronically submit an estimated total of 18,650 reporting documents under all four phases (application, grant agreement, project management, and project evaluation) per year. Each respondent will spend an estimated average of 157.75 hours to complete all the phases of a grant annually.

Estimated Total Annual Burden Hours: Total estimated average annual burden is 61,400 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: January 4, 2024.
Jazmyne Lewis,
Information Collection Officer.

[FR Doc. 2024-00281 Filed 1-9-24; 8:45 am]

BILLING CODE 4910-22-P